DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State governors under section 250 (b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC, provided such request if filed in writing with the Director of DTAA not later than August 16, 2002.

Also, interested persons are invited to submit written comments regarding the subject matter of the petitions to the Director of DTAA at the address shown below not later than August 16, 2002.

Petitions filed with the Governors are available for inspection at the Office of the Director, DTAA, ETA, DOL, Room C-5311, 200 Constitution Avenue, NW., Washington, DC 20210.

Signed at Washington, DC, this 25th day of July, 2002.
Edward A. Tomchick,
Director, Division of Trade Adjustment Assistance.

Appendix
Subject firm | Location | Date Received at Governor's office | Petition No. | Articles produced
Topsoil Electronics (Comp) | Wendell, NC | 05/16/2002 | NAFTA-6,201 | Hard File Assemblies.
Pacific Northwest Sugar Co (Comp) | Moses Lake, WA | 05/13/2002 | NAFTA-6,202 | Sugar.
Specialty Minerals, Inc (Wrks) | Plainwell, MI | 05/15/2002 | NAFTA-6,203 | Precipitated Calcium Carbonate.
Victor Forstmann, Inc. (Wrks) | East Dublin, GA | 05/08/2002 | NAFTA-6,204 | Wool Cloth.
ZF Meritor (Wrks) | Maxton, NC | 05/17/2002 | NAFTA-6,205 | Heavy Duty Truck Clutches.
IEC Electronics Corp. (Wrks) | Newark, NY | 05/14/2002 | NAFTA-6,206 | Scanning & Telecommunication Equipment.
Cains Pickles, Inc. (Co.) | South Deerfield, MA | 05/20/2002 | NAFTA-6,207 | Pickles.
Clements Manufacturing, LLC (Comp) | Harbor Beach, MI | 05/16/2002 | NAFTA-6,208 | Wire Harnesses.
Schlumberger Oilfield Sonices (Wrks) | Webster, TX | 05/16/2002 | NAFTA-6,209 | Oil.
Smith Aerospace (Comp.) | Malvern, PA | 05/22/2002 | NAFTA-6,210 | Display Units & Fuel Systems.
General Electric Transportation (UE) | Erie, PA | 05/23/2002 | NAFTA-6,211 | Locomotive Components.
Aaron Automotive (Wrks) | Joplin, MO | 05/22/2002 | NAFTA-6,212 | Remanufacture Transmissions.
Diversified Tool Corp. (Comp.) | Cambridge Springs, PA | 05/22/2002 | NAFTA-6,213 |
Farley's and Sathers Candy Co. (Wrks) | Pittston, PA | 05/23/2002 | NAFTA-6,214 | Hard Candy, Chewy Candy.
J.R. Simplot Co (BCTW) | Heyburn, ID | 05/20/2002 | NAFTA-6,215 | Fries, Hashbrowns.
Textron Golf, Turfcare (UAW) | Racine, WI | 04/26/2002 | NAFTA-6,216 | Lawnmowers.
Protel, Inc (Wrks) | Lakeland, FL | 12/03/2001 | NAFTA-6,217 | Pay phones.
LnSystems Technologies (Wrks) | Roanoke, VA | 05/14/2002 | NAFTA-6,218 | Electronic Document Automation.
Pillowtex Corporation (Co.) | Phenix City, AL | 05/24/2002 | NAFTA-6,219 | Hand towels and washclothes.
Thermal Engineering International ( ) | Wauwatosa, WI | 05/24/2002 | NAFTA-6,220 | Heat exchangers and pressure vessels.
Collins and Aikman ( ) | Marshall, MI | 05/28/2002 | NAFTA-6,221 | Sheet form sound deadener.
Dean Pickle and Specialty Products Co ( ) | Atkins, AR | 05/28/2002 | NAFTA-6,222 |
Gold Toe Brands, Inc ( ) | Burlington, NC | 05/23/2002 | NAFTA-6,223 | Socks.
Metokote Corporation ( ) | Loudon, TN | 05/07/2002 | NAFTA-6,224 | E-coat paint.
Breeze Industrial Products Corporation ( ) | Saltsburg, PA | 05/22/2002 | NAFTA-6,225 | Hose clamps.
Fender Musical Instruments Corporation ( ) | Corona, CA | 05/23/2002 | NAFTA-6,226 | Amplifiers.
ADC Telecommunications ( ) | Shakopee, MN | 05/30/2002 | NAFTA-6,227 | Optical connector.
Decrane Aircraft Seating Co. ( ) | Peshtigo, WI | 05/30/2002 | NAFTA-6,228 | X-ray and oncology medical equipment.
Insilco Technologies, Inc. (CO) | Hiddenite, NC | 05/30/2002 | NAFTA-6,229 | Custom cable assemblies.
Premier Machining Industries, LLC ( ) | Concord, NC | 05/31/2002 | NAFTA-6,230 | Components for MRI machines.
Thomson Consumer Electronic ( ) | Socomo, TX | 05/31/2002 | NAFTA-6,231 | Television.
West Penn Hat & Cap Corporation ( ) | Creighton, PA | 05/31/2002 | NAFTA-6,232 | Caps, visors, and constructed men's hats.
Moltrup Steel Products Company ( ) | Beaver Falls, PA | 05/31/2002 | NAFTA-6,233 | Cold drawn bar steel products.
Scotty's Fashions of Lehighton, Inc. ( ) | Lehighton, PA | 05/31/2002 | NAFTA-6,234 | Garments, basketliners and chair covers.
Mechanical Products ( ) | Jackson, MI | 05/30/2002 | NAFTA-6,235 | Circuit breakers for airospace.
Burlington Industries, Inc. ( ) | Greensboro, NC | 05/31/2002 | NAFTA-6,236 | Upholstery fab., bedding & windows fash.
Buehler Motor, Inc. (Co.) | Kinston, NC | 05/31/2002 | NAFTA-6,237 | Permanent magnet DC motors.
Siemens Energy & Automation Inc. ( ) | Belle Fontaine, OH | 05/20/2002 | NAFTA-6,238 | Distribution.
Square D Company ( ) | Oxford, OH | 05/20/2002 | NAFTA-6,239 | Wireway.
Price Pfister ( ) | Pacoima, CA | 05/23/2002 | NAFTA-6,240 | Fabrication and machine shops.
Henry's Cutting Service ( ) | Hialeah, FL | 06/07/2002 | NAFTA-6,241 |
Nu-Gro Technologies, Inc. ( ) | Gloversville, NY | 06/07/2002 | NAFTA-6,242 | Fertilizer.
VMV Enterprises ( ) | Paducah, KY | 05/24/2002 | NAFTA-6,243 | Rebuilds component parts for locomotives.
Specialty Machine Company, Inc. ( ) | Gastonia, NC | 05/22/2002 | NAFTA-6,244 | Tool and die parts.
Oxord Industries, Inc. ( ) | Walhalla, SC | 06/03/2002 | NAFTA-6,245 | Women's apparel.
JD Holding Company & Subsidiaries, Inc. ( ) | Springport, MI | 06/03/2002 | NAFTA-6,246 | Automatic brake systems.
DuPont Company ( ) | Niagara Falls, NY | 06/03/2002 | NAFTA-6,247 | Terathane-polyethylene glycol.
Lear Corporation Marlette ( ) | Marlette, MI | 06/03/2002 | NAFTA-6,248 | Automative & Truck headliner & sunvisor.
Standex Corp. ( ) | Palmer, MA | 06/04/2002 | NAFTA-6,249 | Casters, bolts, stems.
Florsheim Distribution Center ( ) | Jefferson City, MO | 05/23/2002 | NAFTA-6,250 | Footwear.
Kimble Glass ( ) | Lenoir, NC | 06/05/2002 | NAFTA-6,251 | Deco printers, pipet machines.
Nichirin Coupler ( ) | El Paso, TX | 06/05/2002 | NAFTA-6,252 | Alum. pipe & flanges.
Calumet Steet Company | Chicago Heights, IL | 06/06/2002 | NAFTA-6,253 | Steel.
Denim Processing, Inc | Oneida, TN | 06/05/2002 | NAFTA-6,254 | Menswear dockers.
Chevron Phillips Chemical ( ) | Orange, TX | 06/07/2002 | NAFTA-6,255 | High density polyethylene.
Alexander Garments (Wrks) | Hialeah, FL | 05/24/2002 | NAFTA-6,256 | Boys' Pants.
Associated Garments, LLP ( ) | Miami, FL | 06/04/2002 | NAFTA-6,257 | Jeans.
Jones Apparel Group ( ) | Rural Hall, NC | 06/05/2002 | NAFTA-6,258 | Raw material for clothing.
Stream International ( ) | Memphis, TN | 06/06/2002 | NAFTA-6,259 | Technical phone support.
GretagMacbeth ( ) |  | 05/14/2002 | NAFTA-6,260 |
Pepperell Paper Company ( ) | Pepperell, MA | 05/15/2002 | NAFTA-6,261 | Colored kraft paper.
Taconite Engineering & Mfg. Co. ( ) | Hibbing, MN | 06/03/2002 | NAFTA-6,262 | Roll screen used to size pellets (metal).
Harry J. Price Textiles, Inc. ( ) | Lowell, NC | 05/22/2002 | NAFTA-6,263 | Textiles.
Washington Garment Company, Inc. ( ) | Washington, NC | 06/11/2002 | NAFTA-6,264 | Children's dresses.
Ark-Les Corp. (Comp) | Raleigh, NC | 06/12/2002 | NAFTA-6,265 | Clutch and flow switches.
Landers Co., Inc. (Comp) | Camarillo, CA | 06/05/2002 | NAFTA-6,266 | Mouthwash, gels, creams.
Wesbar Corp. (Comp) | Peru, IN | 06/12/2002 | NAFTA-6,267 | Trailer lights and wire harnesses.
Ilsco Corp. (Comp) | Glasgow, KY | 05/21/2002 | NAFTA-6,268 | Electrical connectors.
Kraft Foods, Inc. (Comp) | Chicago, IL | 06/12/2002 | NAFTA-6,269 | Powered soft drinks, barbeque sauce.
Sovereign Specialty Chemicals (IBT) | Ewing, NJ | 05/21/2002 | NAFTA-6,270 | Adhesives, laminations, sealants.
Industrial Coils (Comp) | Baraboo, WI | 06/12/2002 | NAFTA-6,271 | Magnetic windings.

[FR Doc. 02-19764 Filed 8-5-02; 8:45 am]

BILLING CODE 4510-30M